DEPARTMENT OF THE INTERIOR

Bureau of Land Management

[AZA-32028]

Arizona; Proposed Classification of Public Lands for State Indemnity Selection

AGENCY: Bureau of Land Management, Interior.

ACTION: Notice of Proposed Classification of Public Lands for State Indemnity Selection.

SUMMARY: The Arizona State Board of Land Commissioners has filed a petition for classification and application to acquire the public lands, including the mineral estate, as applicable, described in paragraph 5 below, under the provisions of sections 2275 and 2276 of the Revised Statutes, as amended (43 U.S.C. 851, 852), in lieu of certain school lands granted to the State under the enabling act of June 20, 1910 (36 Stat. 557, 572-575), that were encumbered by other rights or reservations before the State's title could attach. This application has been assigned Serial Number AZA-32028.

SUPPLEMENTARY INFORMATION:

1. The Bureau of Land Management will examine these lands for evidence of prior valid rights or other statutory constraints that would bar transfer. This proposed classification is pursuant to Title 43, Code of Federal Regulations, subpart 2400; and section 7 of the Act of June 28, 1934. (48 Stat. 1269).

2. Information concerning these lands and the proposed transfer to the State of Arizona may be obtained from the Bureau of Land Management, Arizona State Office.

3. For a period of 60 days from the date of publication of this notice in the Federal Register, all persons who wish to submit comments, suggestions, or objections in connection with the proposed classification may present their views in writing to the State Director, Bureau of Land Management, Arizona State Office, 222 North Central Avenue, Phoenix, Arizona 85004.

Any adverse comments will be evaluated by the State Director who will issue a notice of determination to proceed with, modify, or cancel the action. In the absence of any action by the State Director, this classification action will become the final determination of the Department of the Interior.

As provided by Title 43 Code of Federal Regulations, Subpart 2462.1(b), a public hearing may be scheduled by the State Director if he determines that sufficient public interest exists to warrant the time and expense of a hearing.

4. The lands/minerals included in the proposed classification are as follows:

Group I—For Oil and Gas Only:

Gila and Salt River Meridian, Arizona

T. 9 N., R. 30 E.

Sec. 13, SW¼SW¼;

Sec. 24, NE¼.

T. 9 N., R. 31 E.

Sec. 3, Lots 1-3, inclusive, Lots 5-7, inclusive, SW¼NE¼, SE¼NW¼;

Sec. 10, Lots 1-4, inclusive, W½E½, E½W½;

Sec. 15, Lots 1-4, inclusive, W½NE¼;

Sec. 22, Lots 3 and 4, SW¼SE¼, SE¼SW¼;

Sec. 27, Lots 1-3, inclusive, W½NE¼, NE¼NW¼, NW¼SE¼.

T. 10 N., R. 30 E.

Sec. 25, All.

The areas described aggregate approximately 1,852.98 acres, more or less.

Group II—For All Minerals, including Oil and Gas:

Gila and Salt River Meridian, Arizona

T. 10 N., R. 30 E.

Sec. 11, SE¼, SE¼SW¼;

Sec. 14, All;

Sec. 23, All;

Sec. 33, W½NE¼, W½, NW¼SE¼, S½SE¼.

T. 11 N., R. 29 E.

Sec. 21, E½SE¼;

Sec. 22, NW¼SW¼;

Sec. 23, NW¼SW¼.

T. 11 N., R. 31 E.

Sec. 30, Lots 1-4, inclusive, E½, E½W½.

T. 12 N., R. 29 E.

Sec. 24, All.

T. 12 N., R. 30 E.

Sec. 19, Lots 2-4, inclusive, S½NE¼, SE¼NW¼, E½SW¼, SE¼;

Sec. 20, S½N½, S½;

Sec. 24, All;

Sec. 25, All;

Sec. 27, W½, SE¼.

T. 12 N., R. 31 E.

Sec. 18, Lots 1-4, inclusive, E½, E½W½;

Sec. 19, Lots 1-4, inclusive, E½, E½W½;

Sec. 20, All;

Sec. 29, All;

Sec. 30, Lots 1-4, inclusive, E½, E½W½;

Sec. 31, Lots 1-4, inclusive, E½, E½W½.

The areas described aggregate approximately 9,963.62 acres, more or less.

Group III—For All Surface and Subsurface (including Oil and Gas):

Gila and Salt River Meridian, Arizona

T. 12 N., R. 29 E.

Sec. 32, E½E½.

T. 12 N., R. 30 E.

Sec. 8, S½S½;

Sec. 21, All;

Sec. 28, All;

Sec. 29, All;

Sec. 34, All;

Sec. 35, NW¼, S½.

The areas described aggregate approximately 3,360.00 acres, more or less.

Group IV—For Surface Only:

Gila and Salt River Meridian, Arizona

T. 12 N., R. 28 E.

Sec. 14, E½NE¼, NW¼NE¼, W½NW¼, NW¼SW¼, W½SE¼, SE¼SE¼.

T. 12 N., R. 29 E.

Sec. 12, N½NE¼, SW¼NE¼, W½NW¼;

Sec. 18, Lots 2-4, inclusive, SW¼NE¼, E½SW¼, SE¼;

Sec. 20, SE¼SE¼;

Sec. 21, NE¼, N½NW¼, SE¼NW¼, S½;

Sec. 27, All;

Sec. 28, All.

T. 12 N., R. 30 E.

Sec. 1, Lots 1-16, inclusive, SW¼;

Sec. 3, Lots 1-12, inclusive;

Sec. 4, Lots 1-12, inclusive;

Sec. 5, Lots 1 & 2, Lots 5-8, inclusive;

Sec. 9, E½;

Sec. 10, All;

Sec. 11, Lots 1-16, inclusive;

Sec. 12, NW¼;

Sec. 13, S½;

Sec. 14, NE¼, SW¼NW¼, W½SW¼, SE¼SW¼, E½SE¼;

Sec. 17, N½N½;

Sec. 23, E½NE¼, SW¼NE¼, NW¼NW¼, S½SW¼, SE¼;

Sec. 26, NE¼, N½NW¼, S½SW¼.

T. 12 N., R. 31 E.

Sec. 21, All;

Sec. 22, Lots 1-4, inclusive, W½E½, W½;

Sec. 27, Lots 1-4, inclusive, W½E½, W½;

Sec. 28, All;

Sec. 33, All;

Sec. 34, Lots 1-4, inclusive, W½E½, W½.

The areas described aggregate approximately 11,870.55 acres, more or less.

Group V—For Surface and/or Subsurface (Minerals and/or Oil and Gas)

Gila and Salt River Meridian, Arizona

T. 10 N., R. 29 E.

Sec. 18, E½.

T. 11 N., R. 28 E.

Sec. 14, E½E½, NW¼NE¼, SW¼SE¼.

T. 12 N., R. 28 E.

Sec. 10, NW¼SE¼;

Sec. 12, NW¼NE¼, NE¼NW¼, W½SW¼.

T. 12 N., R. 31 E.

Sec. 15, Lots 1-4, inclusive, W½E½, W½.

The areas described aggregate approximately 1,305.82 acres, more or less.

The following listed corporations and individuals are holders of valid leases, permits, and/or rights-of-way on the public lands described above:

Oil and Gas Lease Holders

Gary L. Kiehne, Box 3855, Midland, Texas 79702, AZA-30203, AZA-30206, AZA-30208, AZA-30210, AZA-30211, AZA-30212, AZA-30214, AZA-30216, AZA-30218, AZA-30220, AZA-30221

Ridgeway AZ Oil Corporation, Box 1110, St. Johns, Arizona 85936, AZA-28337, AZA-30213, AZA-30215, AZA-30217, AZA-30224, AZA-30225, AZA-30226, AZA-30227, AZA-30228

Menard Energy Corporation, 5701 Woodway, #350, Houston, Texas 77057, AZA-30202

Recreation and Public Purpose

Arizona State Parks, 800 West Washington, Phoenix, Arizona 85007, AZA-18072

Special Recreation Permittes

National Outdoor Leadership School, Peter Miers, 2751 N. Soldier Trail, Tucson, Arizona 85749, AZA-28264

Handrich Guides and Outfitters, Dave Handrich, P.O. Box 276, Glenwood, New Mexico 88039, NM-038-8-01

Newell Dryden, P.O. Box 543, Thatcher, Arizona 85552, AZA-28308

Gila Buggy Adventures, Earl Morcomb, P.O. Box 1035 Safford, Arizona 85546, AZA-31065

Phantom Ridge Outfitters, Daniel Ward, P.O. Box 575, Thatcher, Arizona 85552, AZA-30643

Robert Corbell, P.O. Box 760, Morenci, Arizona 85540, AZA-31085

Grazing Lease Holders

Royden & Jack Brown, 4343 E. Keim Drive, Paradise Valley, Arizona 85253, Allotment Number 06033

Clifford A. Thorn, P.O. Box 1091, St. Johns, Arizona 85936, Allotment Number 06061

Johnson Cattle Company, 1132 W. McLellen Road, Mesa, Arizona 85201, Allotment Number 06069

JCK, LLC, 1601 E. McKellips Road, Mesa, Arizona 85203, Allotment Number 06158

James Datrice, 17120 Iron Mountain Drive, Poway, California 92064, Allotment Number 06159

Dale G. & Pamela J. Deratany, HC 62, Box 235, Reserve, New Mexico 87830, Allotment Number 06224

Barbara Garcia, 5796 Hollyridge Drive, Camarillo, California 93010, Allotment Number 06253

Range Improvement Holders

Royden & Jack Brown, 4343 E. Keim Drive, Paradise Valley, Arizona 85253, Project Number 1039

Clifford A. Thorn, PO Box 1091, St. Johns, Arizona 85936, Project Number 0981, 0988

JCK, LLC, 1601 E. McKellips Road, Mesa, Arizona 85203, Project Number 2398

James Datrice, 17120 Iron Mountain Drive, Poway, California 92064, Project Number 2322, 2402

Right-of-Way Holders

Navopache Electric Corporation, Box 308, Lakeside, Arizona 85929, AZAR-017703, AZA-023995, AZA-006016

AT & T, 1200 Peach Tree, PA168, Atlanta, Georgia 30309, AZAR-033064, AZA-023608

Apache County Board of Supervisors, Box 238, Lakeside, Arizona 85936, AZA-018952

Lyman Water Company, Box 235, St. Johns, Arizona 85936, AZA-014912, AZPHX-086671

5. Rights-of-way granted by the Bureau of Land Management on the above lands will transfer with the land or may be reserved to the United States (see Sec. 508 of Federal Land Policy Management Act). Oil and gas leases (geothermal, other leasing act minerals) will remain in effect under the terms and conditions of the lease. (Upon expiration or termination of the leases, or any authorized extensions thereof, such rights shall automatically vest in the State.)

Upon receipt of title to the federal lands under application, the Arizona State Land Department is prepared to offer the existing federal grazing lessee(s) an opportunity to apply for a State grazing lease. The State will honor the currently established livestock carrying capacity for the term of the federal lease. In addition, the State shall recognize the federal lessee's interest in federally approved improvements. This classification notice constitutes official notice to holders of grazing use authorizations from the Bureau of Land Management that such authorizations will be terminated in part upon transfer of the land described above to the State of Arizona.

For a period of 45 days from the date of publication, persons asserting a claim to or interest in the described lands, other than holders of leases, permits, or rights-of-way listed above, may file such claim with the State Director, Bureau of Land Management, Arizona State Office, 222 North Central Avenue, Phoenix, Arizona 85004, with evidence that a copy thereof has been served on the Board of Land Commissioners, State of Arizona, 1616 West Adams, Phoenix, AZ 85007.

Dated: June 19, 2002.
Joanie Losacco,
Associate State Director.

[FR Doc. 02-18955 Filed 7-25-02; 8:45 am]

BILLING CODE 4310-32-P